DEPARTMENT OF COMMERCE

National Oceanic and Atmospheric Administration

[RTID 0648-XC822]

Endangered and Threatened Species; Take of Anadromous Fish

AGENCY: National Marine Fisheries Service (NMFS), National Oceanic and Atmospheric Administration (NOAA), Commerce.

ACTION: Notice; issuance of a permit renewal for an Endangered Species Act (ESA) Section 10(a)(1)(A) scientific enhancement permit (Permit 16608-3R).

SUMMARY: Notice is hereby given that NMFS renewed Section 10(a)(1)(A) scientific enhancement Permit 16608-3R to the Bureau of Reclamation. Authorized activities within the permit are expected to affect and enhance the threatened California Central Valley (CCV) Distinct Population Segment (DPS) of steelhead (Oncorhynchus mykiss) and the Southern DPS (sDPS) of North American green sturgeon (Acipenser medirostris) through enhancement activities and research and monitoring in the San Joaquin River from the Merced River confluence to the base of Mendota Dam, and select locations on the Mariposa and Eastside bypasses, and entrances to the following off-channel sloughs: Mud Slough, Salt Slough, and Newman Wasteway.

ADDRESSES: The permit application, the permit, and other related documents are available for review through contacting the California Central Valley Office, Section 10(a)(1)(A) permit coordinator (Hilary Glenn: phone: (916) 200-8211 or email at: Hilary.Glenn@noaa.gov). The application for Permit 16608-3R is also available for review at the Authorizations and Permits for Protected Species website: https://apps.nmfs.noaa.gov/search/search.cfm.

FOR FURTHER INFORMATION CONTACT: Hilary Glenn at (916) 200-8211, or email: Hilary.Glenn@noaa.gov.

SUPPLEMENTARY INFORMATION:

ESA-Listed Species Covered in This Notification

Threatened California Central Valley (CCV) Distinct Population Segment (DPS) of steelhead (Oncorhynchus mykiss) and the Southern DPS (sDPS) of North American green sturgeon (Acipenser medirostris).

Authority

Scientific research and enhancement permits are issued in accordance with Section 10(a)(1)(A) of the ESA (16 U.S.C. 1531 et. seq) and regulations governing listed fish and wildlife permits (50 CFR 222-227). NMFS issues a Section 10(a)(1)(A) permit based on findings that the permit is (1) applied for in good faith, (2) would not operate to the disadvantage of the listed species which is the subject of the permit, and (3) consistent with the purposes and policies set forth in Section 2 of the ESA. Authority for the take exemption of listed species is subject to conditions set forth in the permit.

Permit 16608-3R

A receipt of application notice for Permit 16608-3R was published in the Federal Register on July 5, 2022 (86 FR 46832), providing 30 days for public comment prior to permit processing. No comment was received. Permit 16608-3R was issued to Reclamation on December 20, 2022.

Permit 16608-3R authorizes take exemption of threatened CCV steelhead and the sDPS of North American green sturgeon in association with enhancement activities involving research and monitoring in the San Joaquin River from the Merced River confluence to the base of Mendota Dam, and select locations on the Mariposa and Eastside bypasses, and entrances to the following off-channel sloughs: Mud Slough, Salt Slough, and Newman Wasteway (collective termed the study area). The primary objectives of this enhancement effort involve: (1) monitor for adult CCV steelhead in the wetted sections of the San Joaquin River downstream of Mendota Dam to the Merced River confluence, (2) relocate CCV steelhead to more suitable habitat downstream of the Merced River confluence, (3) determining the distribution, abundance, size, and age structures of both CCV steelhead and sDPS green sturgeon, and (4) documenting changes in CCV steelhead abundance and distribution in response to fluctuating water conditions. Monitoring activities include: capture (raft-mounted electrofisher), fyke nets with wing walls and fish traps, steelhead-specific trammel nets, hand seins, handling (conducting length measurements, gender identification, tissue and scale collection, assessment of condition, checking for the presence of tags), and Passive Integrated Transponder (PIT) tagging of fish inclusive of steelhead and green sturgeon. Captured CCV steelhead will be transported by tanker truck and released in the San Joaquin River downstream of the Merced River confluence. Recaptured CCV steelhead will be identified by the presence of a PIT tag.

Field activities for monitoring effort will occur December 1 through April 30 over the next 5 years (start: 12/01/2022 End: 12/31/2027). For this 5 year effort Reclamation will take no more than: (1) non-lethal (seven adults) and lethal (two adults) effects due to collecting, sampling, and transport of live threatened CCV steelhead (natural origin) and non-lethal (seven adults) and lethal (two adults) effects to threatened CCV steelhead of hatchery origin, (2) non-lethal (six adults) and no lethal effects due to capture, handling, and release of live threatened sDPS of North American green sturgeon, and (3) non-lethal effects to threatened CCV steelhead of natural origin (ten adults) and threatened CCV steelhead of hatchery origin (ten adults), and threatened sDPS of North American green sturgeon (three adults) due to observations and harassment at weirs, fish ladders, and dams where no trapping occurs. The potential unintentional lethal take resulting from the proposed scientific enhancement activities is up to four adult CCV steelhead (two natural origin; two hatchery origin). Overall, no intentional lethal take of CCV steelhead is proposed or expected as a result of these scientific enhancement activities.

This scientific enhancement effort is expected to provide valuable information on sDPS of North American green sturgeon and the most southern extent of CCV steelhead to the California Department of Fish and Wildlife's comprehensive monitoring plan for steelhead and green sturgeon in the Central Valley. The monitoring by Reclamation is consistent with recommendations and objectives outlined in NMFS' Recovery Plan for CCV steelhead and the sDPS of North American green sturgeon. See the application for Permit 16608-3R for greater details on the scientific enhancement proposal and related methods.

Dated: March 2, 2023.
Angela Somma,
Chief, Endangered Species Division, Office of Protected Resources, National Marine Fisheries Service.

[FR Doc. 2023-04722 Filed 3-7-23; 8:45 am]

BILLING CODE 3510-22-P